DEPARTMENT OF THE INTERIOR

Bureau of Reclamation

[RR83550000, 256R5065C6, RX.59389832.1009676]

Quarterly Status Report of Water Service, Repayment, and Other Water-Related Contract Actions

AGENCY: Bureau of Reclamation, Interior.

ACTION: Notice of contract actions.

SUMMARY: Notice is hereby given of contractual actions that have been proposed to the Bureau of Reclamation (Reclamation) and are new, discontinued, or completed since the last publication of this notice. This notice informs the public about proposed contractual actions for capital recovery and management of project resources and facilities consistent with section 9(f) of the Reclamation Project Act of 1939.

ADDRESSES: The identity of the approving officer and other information pertaining to a specific contract proposal may be obtained by calling or writing the appropriate regional office at the address and telephone number given for each region in the SUPPLEMENTARY INFORMATION section of this notice.

FOR FURTHER INFORMATION CONTACT: Morgan Raymond, Reclamation Law Administration Division, Bureau of Reclamation, P.O. Box 25007, Denver, Colorado 80225-0007; mraymond@usbr.gov; telephone 303-445-3382. Individuals in the United States who are deaf, deafblind, hard of hearing, or have a speech disability may dial 711 (TTY TDD, or TeleBraille) to access telecommunications relay services. Individuals outside the United States should use the relay services offered within their country to make international calls to the point-of-contact in the United States.

SUPPLEMENTARY INFORMATION: Consistent with section 9(f) of the Reclamation Project Act of 1939 and the regulations at 43 CFR 426.22, Reclamation publishes notice of proposed or amendatory contract actions for any contract for the delivery of project water for authorized uses.

The public participation procedures do not apply to proposed contracts for the sale of surplus or interim irrigation water for a term of one year or less. Either of the contracting parties may invite the public to observe contract proceedings. All public participation procedures will be coordinated with those involved in complying with the National Environmental Policy Act.

Pursuant to the “Final Revised Public Participation Procedures” for water resource-related contract negotiations, published in 47 FR 7763, February 22, 1982, a tabulation is provided of all proposed contractual actions in each of the five Reclamation regions. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act, as amended.

4. Written comments on a proposed contract or contract action must be submitted to the appropriate regional officials at the locations and within the time limits set forth in the advance public notices.

5. All written comments received, and testimony presented at any public hearings will be reviewed and summarized by the appropriate regional office for use by the contract approving authority.

6. Copies of specific proposed contracts may be obtained from the appropriate regional director or his or her designated public contact as they become available for review and comment.

7. In the event modifications are made in the form of a proposed contract, the appropriate regional director shall determine whether republication of the notice and/or extension of the comment period is necessary.

Factors considered in making such a determination shall include, but are not limited to, (i) the significance of the modification, and (ii) the degree of public interest which has been expressed over the course of the negotiations. At a minimum, the regional director will furnish revised contracts to all parties who requested the contract in response to the initial public notice.

Definitions of Abbreviations Used in the Reports

BCP Boulder Canyon Project

Reclamation Bureau of Reclamation

CAP Central Arizona Project

CUP Central Utah Project

CVP Central Valley Project

CRSP Colorado River Storage Project

XM Extraordinary Maintenance

EXM Emergency Extraordinary Maintenance

FR Federal Register

IDD Irrigation and Drainage District

ID Irrigation District

M&I Municipal and Industrial

O&M Operation and Maintenance

OM&R Operation, Maintenance, and Replacement

P-SMBP Pick-Sloan Missouri Basin Program

RRA Reclamation Reform Act of 1982

SOD Safety of Dams

SRPA Small Reclamation Projects Act of 1956

USACE U.S. Army Corps of Engineers

WD Water District

WIIN Act Water Infrastructure Improvements for the Nation Act

Missouri Basin—Interior Region 5: Bureau of Reclamation, Federal Building, 2021 4th Avenue North, Billings, Montana 59101, telephone 406-247-7733.

New contract actions:

30. Buford-Trenton ID, P-SMBP, North Dakota: Consideration of amendment to Contract No.079D620039 and Contract No. 20XX620085 for the addition of pump sites within project boundaries and an increase in project use power.

31. City of Aurora and Pitkin County, Fryingpan-Arkansas Project, Colorado: Consideration for long term excess capacity contract.

Completed contract actions:

19. Gray Goose ID, Gray Goose Project, P-SMBP, South Dakota: Amendment to Contract No. 0-07-60-W0563 for inclusion of lands. Completed on January 23, 2025.

20. Hillcrest Colony, Inc., Canyon Ferry Unit, P-SMBP, Montana: Renewal of long-term water service Contract No. 149E670110. Completed on January 29, 2025.

21. Pueblo West Metro District, Fryingpan-Arkansas Project, Colorado: Renewal of long-term water service Contract No. 4-07-70-W0692. Completed on January 23, 2025.

24. Town of Kirby, Boysen Unit, P-SMBP, Wyoming: Renewal of long-term water service Contract No. 5-07-60-WS173. Completed on April 29, 2025.

29. Fort Clark Irrigation District, Fort Clark Unit, P-SMBP, North Dakota: Renewal of water service Contract No. 209E630059. Completed on June 16, 2025.

Discontinued contract actions:

16. Frenchman-Cambridge ID, Frenchman-Cambridge Division, P-SMBP, Nebraska: No longer considering contract amendment for changes to place of use and point of diversions.

Upper Colorado Basin—Interior Region 7: Bureau of Reclamation, 125 South State Street, Room 8100, Salt Lake City, Utah 84138-1102, telephone 801-524-3600.

New contract actions:

13. Middle Rio Grande Project, New Mexico: Reclamation is discussing plans to store native Rio Grande system water and San Juan-Chama Project water in Abiquiu Reservoir under existing O&M authorities. This will be a five-year agreement with an option to extend, if needed.

14. San Juan-Chama Project, New Mexico: Reclamation wants to extend the existing term under Article 8 of Contract No. 16-WC-40-596, to continue utilizing the four Pueblos' (Pueblo of Nambe, Pueblo of San Ildefonso, Pueblo of Pojoaque and Pueblo Tesuque) share of Project water (1,079 acre-feet) for the Supplemental Water Acquisition Program. In exchange, Reclamation will continue to cover the four Pueblos' share of O&M costs.

15. Weber Basin Water Conservancy District, Utah: Weber Basin Water Conservancy District stated its intent to seek title transfer of the United States' ownership interests in certain Project facilities and associated lands pursuant to the John D. Dingell, Jr. Conservation, Management, and Recreation Act of March 12, 2019 (Pub. L. 116-9).

16. Davis Aqueduct Parallel Pipeline Project, Weber Basin Water Conservancy District, Utah: Amendment to XM Contract No. 22-WC-40-940 Amendment No. 1, funding pursuant to title IX of the Infrastructure Investment and Jobs Act of November 15, 2021 (Pub. L. 117-58) to increase budget to $23,000,000 for XM work and to update language on Articles VIII, XV and XVI.

17. Elephant Butte Irrigation District, Rio Grande Project, New Mexico: Reclamation and Elephant Butte Irrigation District (EBID) plan to enter a contract to partially convert EBID's irrigation water supply to miscellaneous purposes to comply with proposed delivery obligations to El Paso Count Water Improvement District #1 and Texas per the proposed settlement in TX. V. NM.

Completed contract actions:

6. Wyoming Water Development Commission, Seedskadee Project, Wyoming: The Wyoming Water Development Commission entered a contract with Reclamation to acquire the use of the remaining water in the Fontenelle Reservoir. As negotiations are not complete and funds remain in Task Order 2019-1, Reclamation extended the term of Technical Services Agreement No. 15-WC-40-559 under Section 9 of the Reclamation Project Act of 1939. Completed on March 14, 2025.

18. Cascade Development Company LC, Kennewick, Washington: Amended Technical Services Agreement No. 18-WC-40-715 Article 5(a) to extend the agreement period for 10 years per the Contributed Funds Act of May 4, 1921 (43 U.S.C. 395). Completed on May 9, 2025.

19. Ogden River Water Users Association, Ogden River Project, Utah: Reclamation entered Technical Services Agreement No. 25-40-WC-1008 under the Contributed Funds Act of March 4, 1921 (43 U.S.C. 395). Completed on March 14, 2025

20. Weber River Water Users Association, Weber River Project, Utah: Reclamation entered Technical Services Agreement No. 25-40-WC-1010 under the Contributed Funds Act of March 4, 1921 (43 U.S.C. 395). Completed on March 14, 2025.

21. Utah Department of Transportation, Utah: Reclamation entered Technical Services Agreement No. 25-WC-40-1000 under the Contributed Funds Act of March 4, 1921 (43 U.S.C. 395). Completed on February 2, 2025.

Modified contract actions:

3. Middle Rio Grande Project, New Mexico: Reclamation will continue annual leasing of water from various San Juan-Chama Project contractors in 2025 to stabilize flows in a critical reach of the Rio Grande to meet the needs of irrigators and preserve habitat for the silvery minnow. Reclamation leased approximately 11,669 acre-feet to San Juan-Chama Contractors in 2024.

Lower Colorado Basin—Interior Region 8: Bureau of Reclamation, P.O. Box 61470 (Nevada Highway and Park Street), Boulder City, Nevada 89006-1470, telephone 702-293-8192.

New contract actions:

18. Lake Havasu City, BCP, Arizona: Proposed revision to Exhibit C under Contract No. 3-07-30-W0039 to update well information as approved points of diversions under the contract.

19. La Paz County, BCP, Arizona: Proposed amendment to Contract No. 08-XX-30-W0530 to add a new point of diversion, Mark Wilmer Pumping Plant, at Lake Havasu, and proposed wheeling agreement, for Central Arizona Water Conservation District to wheel water through the CAP canal.

20. Nevada Department of Wildlife, BCP, Nevada: Proposed approval of a new point of diversion under Contract No. 14-06-300-2405.

21. Arizona State Land Department, BCP, Arizona: Proposed revision to Exhibit B and C under Contract No. 4-07-30-W0317 to update lessee information and corresponding map.

Completed contract actions:

22. City of Needles, The Metropolitan Water District of Southern California, Lower Colorado Water Supply Project, California: Amendment No. 3 to Contract No. 06-XX-30-W0452. Completed on February 27, 2025.

16. Arizona State Land Department, City of Phoenix, Central Arizona Water Conservation District, CAP, Arizona: Transfer of 3,900 acre-feet per year of CAP M&I water under Arizona State Land Department's subcontract No. 07-XX-30-W0503 to the City of Phoenix. Completed on February 27, 2025.

17. Circle City Water Company, LLC, City of Surprise, Central Arizona Water Conservation District, CAP, Arizona: Transfer of 3,932 acre-feet per year of CAP M&I water to Surprise resulting in termination of Circle City's subcontract No. 07-XX-30-W0463 and increasing the water entitlement under Surprise's subcontract No. 07-XX-30-W0505 to 14,181 acre-feet per year of CAP M&I water. Completed on February 27, 2025.

3. Gold Dome Mining Corporation and Wellton-Mohawk IDD, Gila Project, Arizona: Terminated contract No. 0-07-30-W0250 pursuant to Articles 11(d) and 11(e). Completed on April 23, 2025.

4. Estates of Anna R. Roy and Edward P. Roy, Gila Project, Arizona: Terminated Contract No. 6-07-30-W0124 pursuant to Article 9(c). Completed on April 23, 2025.

20. Nevada Department of Wildlife, BCP, Nevada: Proposed approval of a new point of diversion under Contract No. 14-06-300-2405. Completed May 8, 2025.

Columbia-Pacific Northwest—Interior Region 9: Bureau of Reclamation, 1150 North Curtis Road, Suite 100, Boise, Idaho 83706-1234, telephone 208-378-5306.

New contract actions:

20. State of Washington, Columbia Basin Project, Washington: Amendment to long-term water service Contract No. 11XX101734 to add terms and conditions for the temporary provision of up to an additional 50,000 acre-feet of project water during periods of declared drought emergency pursuant to the Reclamation States Emergency Drought Relief Act of 1991.

California-Great Basin—Interior Region 10: Bureau of Reclamation, 2800 Cottage Way, Sacramento, California 95825-1898, telephone 916-978-5250.

Modified contract actions:

28. Cachuma Project, California: Negotiation and execution of a repayment contract or an amendatory contract, as applicable, with the Cachuma Operation and Maintenance Board for SOD projects.

Heidi Morrow,
Acting Director, Mission Assurance and Protection Organization.

[FR Doc. 2025-17936 Filed 9-16-25; 8:45 am]

BILLING CODE 4332-90-P